SMALL BUSINESS ADMINISTRATION

Public Federal Regulatory Enforcement Fairness Roundtable; Small Business Administration Region VII Regulatory Fairness Board

The Small Business Administration Region VII Regulatory Fairness Board and the SBA Office of the National Ombudsman will hold a Public Roundtable on Thursday, November 7, 2002 at 9 a.m. at the Exchange Bank, 132 E. High Street, Jefferson City, MO 65102, to provide small business owners and representatives of trade associations with an opportunity to share information concerning the federal regulatory enforcement and compliance environment.

Anyone wishing to attend or to make a presentation must contact Rose Garland in writing or by fax, in order to be put on the agenda. Rose Garland, U.S. Small Business Administration, St. Louis District Office, 815 Olive Street, Room 242, St. Louis, MO 63101, phone (314) 539-6600 ext. 232, fax (314) 539-3785, e-mail: rose.garland@sba.gov.

For more information, see our Web site at http://www.sba.gov/ombudsman.
Dated: October 23, 2002.
Michael L. Barrera,
National Ombudsman.

[FR Doc. 02-27795 Filed 10-31-02; 8:45 am]

BILLING CODE 8025-01-P